DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Training and Technical Assistance (TTA) Programs Monitoring

The Substance Abuse and Mental Health Administration's (SAMHSA) will monitor program performance of its Training and Technical Assistance (TTA) Programs. The TTAs disseminate current behavioral health services research from the National Institute on Drug Abuse, National Institute on Alcohol Abuse and Alcoholism, National Institute of Mental Health, National Institute of Justice, and other sources, as well as other SAMHSA programs. To accomplish this, the TTAs develop and update state-of-the-art, research-based curricula and professional development training.

The TTAs hold a variety of events: Technical assistance events, meetings, trainings, presentations and learning collaboratives. A TTA technical assistance event is defined as a jointly planned consultation generally involving a series of contacts between the TTA and an outside organization/institution during which the TTA program provides expertise and gives direction toward resolving a problem or improving conditions. Technical assistance events can be categorized into universal, targeted, and intensive. Other TTA events such as meetings, training, strategic planning and learning collaboratives are utilized to support technical assistance. These events are TTA-sponsored or co-sponsored events in which a group of people representing one or more agencies other than the TTA program work cooperatively on a project, problem, and/or policy.

SAMHSA intends to use three (3) instruments for program monitoring of TTA events as well as ongoing quality improvement, which are described below.

1. Event Description Form (EDF): The EDF collects event information. This instrument asks approximately 10 questions of TTA faculty/staff relating to the event focus and format. It allows the TTCs and SAMHSA to track the number of events held (See Attachment 1).

2. TTA Post Event Form: The Post Event Form will be administered immediately following the event. It asks approximately 15 questions of each individual that participated in the event (Attachment 2). The instrument asks the participants to report on general demographic information (gender, sexual orientation, race, level of education, primary profession), principal employment setting, employment zip code, satisfaction with the event, if they expect the event to benefit them professionally, if they expect the event to change their practice and if they would recommend the event to a colleague.

3. TTA Follow-up Form: The Follow-up Form will be administered 60-days after all events that last a minimum of three (3) hours. The form will be administered to a minimum of 25% of participants who consent to participate in the follow-up process. The form asks about 14 questions (Attachment 3). The instrument asks the participants to report if the information provided in at the event benefited their professional development, will change their practice, if they will use the information in their future work, if information will be shared with colleagues, how the event supported their work responsibilities, how the TTA program can improve the events, what other topics would participants like to see TTCs address and in what format.

The information collected on the TTA program forms will assist SAMHSA in documenting the numbers and types of participants in TTA events, describing the extent to which participants report improvement in their professional development, and which method is most effective in disseminating knowledge to various audiences. This type of information is crucial to support SAMHSA in complying with GPRA reporting requirements and will inform future development of knowledge dissemination activities.

The chart below summarizes the annualized burden for this project.

Type of respondent | Number of respondents | Responses per respondent | Total responses | Hours per response | Total annual burden hours | Hourly wage cost | Total hour cost
TTA Faculty/Staff
Event Description Form | 2,000 | 1 | 2,000 | .16 | 320 | $24.78 | $7,930
Meeting and presentations respondents
Post-Event Form | 50,000 | 1 | 50,000 | .16 | 8,000 | $24.78 | $198,240
Follow-up Form | Meetings and presentations are usually less than 3 hours. Follow up forms will be used only for events longer than 3 hours
Technical Assistance and Training respondents
Post-Event Form | 100,000 | 1 | 100,000 | .16 | 16,000 | $24.78 | $396,480
Follow-up Form | 25,000 | 1 | 25,000 | .16 | 4,000 | $24.78 | $99,120
Total | 177,000 | 1 | 177,000 | .16 | 28,320 | $24.78 | $701,770

Summary Table

Instruments | # Respondents | Responses per respondents | Burden hours
TTA Event Description Form | 2,000 | 1 | 320
TTA Post Event Form | 150,000 | 1 | 24,000
TTA Follow up Form | 25,000 | 1 | 4,000
Total | 177,000 | 1 | 28,320

Send comments to Carlos Graham, SAMHSA Reports Clearance Officer, 5600 Fishers Lane, Room 15E57A, Rockville, MD 20857 OR email a copy at carlos.graham@samhsa.hhs.gov. Written comments should be received by November 1, 2021.

Carlos Graham,
Social Science Analyst.

[FR Doc. 2021-18916 Filed 8-31-21; 8:45 am]

BILLING CODE 4162-20-P